DEPARTMENT OF LABOR

Employment and Training Administration

[TA-W-40,331]

Georgia-Pacific West, Camas, WA; Notice of Negative Determination on Reconsideration

On April 10, 2002, the Department issued an Affirmative Determination Regarding Application for Reconsideration for the workers and former workers of the subject firm. The notice was published in the Federal Register on May 2, 2002 (67 FR 22116).

The Department initially denied TAA to workers of Georgia-Pacific West, Camas, Washington because the “contributed importantly” group eligibility requirement of Section 222(3) of the Trade Act of 1974, as amended, was not met. The investigation revealed that customers did not increase their import purchases of technical specialty paper during the relevant period. The workers at the subject firm were engaged in employment related to the production of technical specialty paper.

On reconsideration, as requested by the Association of Western Pulp Paper Workers, the Department surveyed additional customers of Georgia Pacific-West regarding their purchases of technical specialty paper for 1999, 2000 and 2001. The survey revealed that none of these customers purchased imports of technical specialty paper during the relevant period.

Conclusion

After reconsideration, I affirm the original notice of negative determination of eligibility to apply for worker adjustment assistance for workers and former workers of Georgia-Pacific West, Camas, Washington.

Signed at Washington, DC, this 21st day of May 2002.
Linda G. Poole,
Certifying Officer, Division of Trade Adjustment Assistance.

[FR Doc. 02-14593 Filed 6-10-02; 8:45 am]

BILLING CODE 4510-30-P